DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 USC 1531 et seq.). The U.S. Fish and Wildlife Service solicits review and comment from local, State, and Federal agencies, and the public on the following permit requests.

Permit No. TE-052307

Applicant: Marck Menke, San Fransisco, California.

The applicant requests a permit to take (collect) Eriodictyon altissimum (Indian Knob Mountain Balm) and Eriodictyon capitatum (Lompoc Yerba Santa) in conjunction with evolutionary plant studies in San Luis Obispo and Santa Barbara Counties, California for the purpose of enhancing their survival.

Permit No. TE-797233

Applicant: Entomological Consulting Services, Ltd., Pleasant Hill, California.

The permittee requests a permit amendment to take (survey by pursuit) the Palos Verdes blue butterfly (Glaucopsyche lygdamus palosverdesensis) and the Smith's blue butterfly (Euphilotes enoptes smithi), and take (harass by survey and collect) the Ohlone tiger beetle (Cicindela ohlone) in conjunction with life history studies in Los Angeles, Monterey, Santa Cruz, and San Luis Obispo Counties, California for the purpose of enhancing their survival.

Permit No. TE-040555

Applicant: Steven L. Jessup, Ashland, Oregon.

The applicant requests a permit to take (collect tissue samples, flowers, and leaves) Fritillaria gentneri (Gentner's fritillary) in conjunction with genetic plant studies in Jackson and Josephine Counties, Oregon for the purpose of enhancing its survival.

Permit No. TE-051582

Applicant: William Goggin, San Leandro, California.

The applicant requests a permit to: take (harass by survey) the California clapper rail (Rallus longirostris obsoletus) and the southwestern willow flycatcher (Empidonax traillii extimus); and take (capture) the California tiger salamander (Ambystoma californiense), the California freshwater shrimp (Syncaris pacifica), the Alameda whipsnake (Masticophis lateralis euryxanthus), the salt marsh harvest mouse (Reithrodontomys raviventris), and the San Francisco garter snake (Thamnophis sirtalis tetrataenia) throughout the range of each species in conjunction with surveys for the purpose of enhancing their survival.

Permit No. TE-787484

Applicant: Kathleen M. Keane, Long Beach, California.

The permittee requests a permit amendment to take (locate and monitor nests) the California least tern (Sterna antillarum browni) in Santa Barbara and San Luis Obispo Counties, California in conjunction with monitoring activities for the purpose of enhancing its survival.

Permit No. TE-702631

Applicant: Regional Director, Region 1, U.S. Fish and Wildlife Service, Portland, Oregon.

The permittee requests a permit amendment to take the Carson wandering skipper (Pseudocopaeodes eunus obscurus) and the Columbia Basin distinct population segment of the pygmy rabbit (Brachylagus idahoensis). Take activities will be conducted throughout the range of the species in conjunction with recovery efforts for the purpose of enhancing their propagation and survival.

Permit No. TE-052744

Applicant: Shannon Hickey, Davis, California.

The applicant requests a permit to take (harass by survey, collect and sacrifice) the Conservancy fairy shrimp (Branchinecta conservatio), the longhorn fairy shrimp (Branchinecta longiantenna), the San Diego fairy shrimp (Branchinecta sandiegonensis), the vernal pool tadpole shrimp (Lepidurus packardi), and the Riverside fairy shrimp (Streptocephalus wootoni) throughout the range of each species in conjunction with surveys for the purpose of enhancing their survival.

Permit No. TE-812206

Applicant: Robin Church, La Mesa, California.

The applicant requests a permit to take (harass by survey) the southwestern willow flycatcher (Empidonax traillii extimus) in San Diego, Orange, and Riverside Counties, California in conjunction with surveys for the purpose of enhancing its survival.

Permit No. TE-052847

Applicant: Mike D. Taylor, Irvine, California

The applicant requests a permit to take (monitor nests) the least Bell's vireo (Vireo bellii pusillus) in Los Angeles, Orange, and Riverside Counties, California in conjunction with surveys for the purpose of enhancing its survival.

Permit No. TE-052953

Applicant: Oregon Department of Forestry, Salem, Oregon.

The applicant requests a permit to take (harass by survey) the Oregon chub (Oregonichthys crameri) in Baker, Benton, Clackamas, Crook, Deschutes, Gilliam, Grant, Lake, Lane, Linn, Hood River, Jackson, Jefferson, Klamath, Marion, Multnomah, Polk, Umatilla, Union, Wasco, Washington, Wheeler, and Yamhill Counties, Oregon in conjunction with surveys for the purpose of enhancing its survival.

Permit No. TE-052747

Applicant: Edward J. Stanton, Sun City, California.

The applicant requests a permit to take (survey by pursuit) the Quino checkerspot butterfly (Euphydryas editha quino) in conjunction with vegetation management activities in Riverside County, California for the purpose of enhancing its survival.

Permit No. TE-051248

Applicant: Paul M. Lemons, La Jolla, California.

The applicant requests a permit to take (survey by pursuit) the Quino checkerspot butterfly (Euphydryas editha quino) throughout the range of the species in conjunction with surveys for the purpose of enhancing its survival.

Permit No. TE-051250

Applicant: Kamarul Muri, Encinitas, California.

The applicant requests a permit to take (survey by pursuit) the Quino checkerspot butterfly (Euphydryas editha quino) throughout the range of the species in conjunction with surveys for the purpose of enhancing its survival.

Permit No. TE-051230

Applicant: Michele Balk, Encinitas, California.

The applicant requests a permit to take (survey by pursuit) the Quino checkerspot butterfly (Euphydryas editha quino) throughout the range of the species in conjunction with surveys for the purpose of enhancing its survival.

Permit No. TE-053020

Applicant: Andrew Pigniolo, San Diego, California.

The applicant requests a permit to take (survey by pursuit) the Quino checkerspot butterfly (Euphydryas editha quino) in San Diego and Riverside Counties, California, in conjunction with surveys for the purpose of enhancing its survival.

Permit No. TE-053018

Applicant: Environmental Science & Assessment, Portland, Oregon.

The applicant requests a permit to take (survey, mark, recapture) the Oregon chub (Oregonichthys crameri) in Marion and Linn Counties, Oregon, in conjunction with surveys for the purpose of enhancing its survival.

DATES: Written comments on these permit applications must be received within 30 days of the date of publication of this notice.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: March 24, 2002.
Rowan W. Gould,
Regional Director, Region 1, Portland, Oregon.

[FR Doc. 02-6683 Filed 3-19-02; 8:45 am]

BILLING CODE 4310-55-P